NUCLEAR REGULATORY COMMISSION

10 CFR Parts 26, 30, 40, 50, 70, 73, and 110

[NRC-2018-0200]

RIN 3150-AK15

Miscellaneous Corrections

AGENCY: Nuclear Regulatory Commission.

ACTION: Final rule.

SUMMARY: The U.S. Nuclear Regulatory Commission (NRC) is amending its regulations to make miscellaneous corrections. These changes include removing obsolete language and correcting references, an appendix, operating hours, a telephone number, an inconsistency in a definition, and an office title. This document is necessary to inform the public of these non-substantive amendments to the NRC's regulations.

DATES: This final rule is effective on December 20, 2018.

ADDRESSES: Please refer to Docket ID NRC-2018-0200 when contacting the NRC about the availability of information for this action. You may obtain publicly-available information related to this action by any of the following methods:

• Federal Rulemaking Website: Go to http://www.regulations.gov and search for Docket ID NRC-2018-0200. Address questions about NRC dockets to Carol Gallagher; telephone: 301-415-3463; email: Carol.Gallagher@nrc.gov.

• NRC's Agencywide Documents Access and Management System (ADAMS): You may obtain publicly-available documents online in the ADAMS Public Documents Collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Jill Shepherd-Vladimir, Office of Nuclear Material Safety and Safeguards, U.S. Nuclear Regulatory Commission, Washington, DC 20555-0001; telephone: 301-415-1230, email: Jill.Shepherd-Vladimir@nrc.gov.

SUPPLEMENTARY INFORMATION:

I. Introduction

The NRC is amending its regulations in parts 26, 30, 40, 50, 70, 73, and 110 of title 10 of the Code of Federal Regulations (10 CFR) to make miscellaneous corrections. These changes include removing obsolete language and correcting references, an appendix, operating hours, a telephone number, an inconsistency in a definition, and an office title. This document is necessary to inform the public of these non-substantive amendments to the NRC's regulations.

II. Summary of Changes

10 CFR Part 26

Correct an Inconsistency. In § 26.5, this final rule revises the last sentence in the definition of Positive result to correct an inconsistency between the definition and the requirement in § 26.103 by replacing the word “exceeds” with the phrase “is equal to or greater than”.

Remove Obsolete Language. In §§ 26.183(a) and 26.187(a), this final rule revises the language to remove an expired deadline for submission with the original final rule.

10 CFR Parts 30, 40, and 50

Correct Reference. In §§ 30.7, 40.7, and 50.7, this final rule removes the incorrect reference to “10 CFR 19.11(c)” for NRC Form 3 and replaces it with the correct reference to “10 CFR 19.11(e)(1).”

10 CFR Part 50

Correct Missing Reference. In § 50.8(b), this final rule adds § 50.12, in numerical order, to the list of sections in 10 CFR part 50 that contain information collections.

10 CFR Part 70

Correct Reference. In § 70.38(k)(4), this final rule removes the incorrect reference to “§ 70.51(b)(6)” and replaces it with the correct reference to “§ 70.51(a).”

10 CFR Part 73

Correct Appendix F. In appendix F to 10 CFR part 73, this final rule corrects the title of the appendix, updates footnote 1 to reference the International Atomic Energy Agency's website for current information, and corrects the current list of ratified countries and organizations participating in the Convention on the Physical Protection of Nuclear Material.

10 CFR Part 110

Correct Operating Hours. In § 110.2, this final rule removes the incorrect operating hours of between “8:30 a.m. and 4:15 p.m.” and replaces it with the correct operating hours of between “8:00 a.m. and 4:00 p.m.” for reference service and access to documents requested by telephone as described in the definition for the NRC Public Document Room.

Correct Telephone Number. In § 110.4, this final rule removes the incorrect telephone number “(301) 415-2344” and replaces it with the correct telephone number “301-287-9057” for the Deputy Director of the Office of International Programs.

Correct Office Title. In § 110.6(b), this final rule removes the incorrect Department of Energy (DOE) office title “Office of International Regimes and Agreements” and replaces it with the correct DOE office title “Office of Nonproliferation and Arms Control.”

III. Rulemaking Procedure

Under section 553(b) of the Administrative Procedure Act (5 U.S.C. 553(b)), an agency may waive the requirements for publication in the Federal Register of a notice of proposed rulemaking and opportunity for comment if it finds, for good cause, that it is impracticable, unnecessary, or contrary to the public interest. As authorized by 5 U.S.C. 553(b)(3)(B), the NRC finds good cause to waive notice and opportunity for comment on these amendments, because notice and opportunity for comment is unnecessary. The amendments will have no substantive impact and are of a minor and administrative nature dealing with corrections to certain CFR sections or are related only to management, organization, procedure, and practice. These changes include removing obsolete language and correcting references, an appendix, operating hours, a telephone number, an inconsistency in a definition, and an office title. The Commission is exercising its authority under 5 U.S.C. 553(b) to publish these amendments as a final rule. The amendments are effective December 20, 2018. These amendments do not require action by any person or entity regulated by the NRC, and do not change the substantive responsibilities of any person or entity regulated by the NRC.

IV. Environmental Impact: Categorical Exclusion

The NRC has determined that this final rule is the type of action described in 10 CFR 51.22(c)(2), which categorically excludes from environmental review rules that are corrective or of a minor, nonpolicy nature and do not substantially modify existing regulations. Therefore, neither an environmental impact statement nor an environmental assessment has been prepared for this rule.

V. Paperwork Reduction Act

This final rule does not contain a collection of information as defined in the Paperwork Reduction Act of 1995 (44 U.S.C. 3501 et seq.) and, therefore, is not subject to the requirements of the Paperwork Reduction Act of 1995.

Public Protection Notification

The NRC may not conduct or sponsor, and a person is not required to respond to, a collection of information unless the document requesting or requiring the collection displays a currently valid OMB control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the corrections in this final rule do not constitute backfitting and are not inconsistent with any of the issue finality provisions in 10 CFR part 52. These changes include removing obsolete language and correcting references, an appendix, operating hours, a telephone number, an inconsistency in a definition, and an office title. They impose no new requirements and make no substantive changes to the regulations. The corrections do not involve any provisions that would impose backfits as defined in 10 CFR chapter I or that would be inconsistent with the issue finality provisions in 10 CFR part 52. For these reasons, the issuance of the rule in final form would not constitute backfitting or represent a violation of any of the issue finality provisions in 10 CFR part 52. Therefore, the NRC has not prepared any additional documentation for this correction rulemaking addressing backfitting or issue finality.

VIII. Congressional Review Act

This final rule is not a rule as defined in the Congressional Review Act (5 U.S.C. 801-808).

List of Subjects

10 CFR Part 26

Administrative practice and procedure, Alcohol abuse, Alcohol testing, Appeals, Chemical testing, Drug abuse, Drug testing, Employee assistance programs, Fitness for duty, Management actions, Nuclear power plants and reactors, Privacy, Protection of information, Radiation protection, Reporting and recordkeeping requirements.

10 CFR Part 30

Byproduct material, Criminal penalties, Government contracts, Intergovernmental relations, Isotopes, Nuclear energy, Nuclear materials, Penalties, Radiation protection, Reporting and recordkeeping requirements, Whistleblowing.

10 CFR Part 40

Criminal penalties, Exports, Government contracts, Hazardous materials transportation, Hazardous waste, Nuclear energy, Nuclear materials, Penalties, Reporting and recordkeeping requirements, Source material, Uranium, Whistleblowing.

10 CFR Part 50

Administrative practice and procedure, Antitrust, Classified information, Criminal penalties, Education, Fire prevention, Fire protection, Incorporation by reference, Intergovernmental relations, Nuclear power plants and reactors, Penalties, Radiation protection, Reactor siting criteria, Reporting and recordkeeping requirements, Whistleblowing.

10 CFR Part 70

Classified information, Criminal penalties, Emergency medical services, Hazardous materials transportation, Material control and accounting, Nuclear energy, Nuclear materials, Packaging and containers, Penalties, Radiation protection, Reporting and recordkeeping requirements, Scientific equipment, Security measures, Special nuclear material, Whistleblowing.

10 CFR Part 73

Criminal penalties, Exports, Hazardous materials transportation, Incorporation by reference, Imports, Nuclear energy, Nuclear materials, Nuclear power plants and reactors, Penalties, Reporting and recordkeeping requirements, Security measures.

10 CFR Part 110

Administrative practice and procedure, Classified information, Criminal penalties, Exports, Incorporation by reference, Imports, Intergovernmental relations, Nuclear energy, Nuclear materials, Nuclear power plants and reactors, Penalties, Reporting and recordkeeping requirements, Scientific equipment.

For the reasons set out in the preamble and under the authority of the Atomic Energy Act of 1954, as amended; the Energy Reorganization Act of 1974, as amended; and 5 U.S.C. 552 and 553, the NRC is adopting the following amendments to 10 CFR parts 26, 30, 40, 50, 70, 73, and 110:

PART 26—FITNESS FOR DUTY PROGRAMS

1. The authority citation for part 26 continues to read as follows:

Authority: Atomic Energy Act of 1954, secs. 53, 103, 104, 107, 161, 223, 234, 1701 (42 U.S.C. 2073, 2133, 2134, 2137, 2201, 2273, 2282, 2297f); Energy Reorganization Act of 1974, secs. 201, 202 (42 U.S.C. 5841, 5842); 44 U.S.C. 3504 note.

§ 26.5 [Amended]

2. In § 26.5, in the last sentence of the definition for Positive result, remove the word “exceeds” and add in its place the phrase, “is equal to or greater than”.

§ 26.183 [Amended]

3. In § 26.183(a), remove the phrase “By March 31, 2010, the” and add in its place the word “The”.

§ 26.187 [Amended]

4. In § 26.187(a), remove the phrase “By March 31, 2010, any” and add in its place the word “Any”.

PART 30—RULES OF GENERAL APPLICABILITY TO DOMESTIC LICENSING OF BYPRODUCT MATERIAL

5. The authority citation for part 30 continues to read as follows:

Authority: Atomic Energy Act of 1954, secs. 11, 81, 161, 181, 182, 183, 184, 186, 187, 223, 234, 274 (42 U.S.C. 2014, 2111, 2201, 2231, 2232, 2233, 2234, 2236, 2237, 2273, 2282, 2021); Energy Reorganization Act of 1974, secs. 201, 202, 206, 211 (42 U.S.C. 5841, 5842, 5846, 5851); 44 U.S.C. 3504 note.

§ 30.7 [Amended]

6. In § 30.7(e)(1), remove the reference “10 CFR 19.11(c)” and add in its place the reference “10 CFR 19.11(e)(1)”.

PART 40—DOMESTIC LICENSING OF SOURCE MATERIAL

7. The authority citation for part 40 continues to read as follows:

Authority: Atomic Energy Act of 1954, secs. 62, 63, 64, 65, 69, 81, 83, 84, 122, 161, 181, 182, 183, 184, 186, 187, 193, 223, 234, 274, 275 (42 U.S.C. 2092, 2093, 2094, 2095, 2099, 2111, 2113, 2114, 2152, 2201, 2231, 2232, 2233, 2234, 2236, 2237, 2243, 2273, 2282, 2021, 2022); Energy Reorganization Act of 1974, secs. 201, 202, 206, 211 (42 U.S.C. 5841, 5842, 5846, 5851); Uranium Mill Tailings Radiation Control Act of 1978, sec. 104 (42 U.S.C. 7914); 44 U.S.C. 3504 note.

§ 40.7 [Amended]

8. In § 40.7(e)(1), remove the reference “10 CFR 19.11(c)” and add in its place the reference “10 CFR 19.11(e)(1)”.

PART 50—DOMESTIC LICENSING OF PRODUCTION AND UTILIZATION FACILITIES

9. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

§ 50.7 [Amended]

10. In § 50.7(e)(1), remove the reference “10 CFR 19.11(c)” and add in its place the reference “10 CFR 19.11(e)(1)”.

§ 50.8 [Amended]

11. In § 50.8(b), remove “§§ 50.30,” and add “§§ 50.12, 50.30,” in its place.

PART 70—DOMESTIC LICENSING OF SPECIAL NUCLEAR MATERIAL

12. The authority citation for part 70 continues to read as follows:

Authority: Atomic Energy Act of 1954, secs. 51, 53, 57(d), 108, 122, 161, 182, 183, 184, 186, 187, 193, 223, 234, 274, 1701 (42 U.S.C. 2071, 2073, 2077(d), 2138, 2152, 2201, 2232, 2233, 2234, 2236, 2237, 2243, 2273, 2282, 2021, 2297f); Energy Reorganization Act of 1974, secs. 201, 202, 206, 211 (42 U.S.C. 5841, 5842, 5846, 5851); Nuclear Waste Policy Act of 1982, secs. 135, 141 (42 U.S.C. 10155, 10161); 44 U.S.C. 3504 note.

§ 70.38 [Amended]

13. In § 70.38(k)(4), remove the reference “§ 70.51(b)(6)” and add in its place the reference “§ 70.51(a)”.

PART 73—PHYSICAL PROTECTION OF PLANTS AND MATERIALS

14. The authority citation for part 73 continues to read as follows:

Authority: Atomic Energy Act of 1954, secs. 53, 147, 149, 161, 170D, 170E, 170H, 170I, 223, 229, 234, 1701 (42 U.S.C. 2073, 2167, 2169, 2201, 2210d, 2210e, 2210h, 2210i, 2273, 2278a, 2282, 2297f); Energy Reorganization Act of 1974, secs. 201, 202 (42 U.S.C. 5841, 5842); Nuclear Waste Policy Act of 1982, secs. 135, 141 (42 U.S.C. 10155, 10161); 44 U.S.C. 3504 note.

Section 73.37(b)(2) also issued under Sec. 301, Public Law 96-295, 94 Stat. 789 (42 U.S.C. 5841 note).

15. Revise appendix F to part 73 to read as follows:

Appendix F to Part 73—Countries and Organizations That Are Parties to the Convention on the Physical Protection of Nuclear Material ¹

¹ An updated list of party countries and organizations will appear annually in the International Atomic Energy Agency's publication, Convention on the Physical Protection of Nuclear Material, at https://www-legacy.iaea.org/Publications/Documents/Conventions/cppnm_status.pdf. Appendix F will be amended as required to maintain its currency.

Countries/Organizations

Afghanistan

Albania

Algeria

Andorra

Antigua and Barbuda

Argentina

Armenia

Australia

Austria

Azerbaijan

Bahamas

Bahrain

Bangladesh

Belarus

Belgium

Bolivia

Bosnia and Herzegovina

Botswana

Brazil

Bulgaria

Burkina Faso

Cabo Verde

Cambodia

Cameroon

Canada

Central African Republic

Chile

China

Colombia

Comoros

Costa Rica

Côte d'Ivoire

Croatia

Cuba

Cyprus

Czech Republic

Democratic Rep. of the Congo

Denmark

Djibouti

Dominica

Dominican Republic

Ecuador

El Salvador

Equatorial Guinea

Estonia

Eswatini

Fiji

Finland

France

Gabon

Georgia

Germany

Ghana

Greece

Grenada

Guatemala

Guinea

Guinea-Bissau

Guyana

Haiti

Honduras

Hungary

Iceland

India

Indonesia

Iraq

Ireland

Israel

Italy

Jamaica

Japan

Jordan

Kazakhstan

Kenya

Korea, Republic of

Kuwait

Kyrgyzstan

Lao P.D.R.

Latvia

Lebanon

Lesotho

Libya

Liechtenstein

Lithuania

Luxembourg

Madagascar

Malawi

Mali

Malta

Marshall Islands

Mauritania

Mexico

Monaco

Mongolia

Montenegro

Morocco

Mozambique

Myanmar

Namibia

Nauru

Netherlands

New Zealand

Nicaragua

Niger

Nigeria

Niue

Norway

Oman

Pakistan

Palau

Panama

Paraguay

Peru

Philippines

Poland

Portugal

Qatar

Republic of Moldova

Romania

Russian Federation

Rwanda

Saint Kitts and Nevis

Saint Lucia

San Marino

Saudi Arabia

Senegal

Serbia

Seychelles

Singapore

Slovakia

Slovenia

South Africa

Spain

Sudan

Sweden

Switzerland

Tajikistan

Thailand

The frmr. Yug. Rep. of Macedonia

Togo

Tonga

Trinidad and Tobago

Tunisia

Turkey

Turkmenistan

Uganda

Ukraine

United Arab Emirates

United Kingdom

United Republic of Tanzania

United States of America

Uruguay

Uzbekistan

Viet Nam

Yemen

Zambia

EURATOM

PART 110—EXPORT AND IMPORT OF NUCLEAR EQUIPMENT AND MATERIAL

16. The authority citation for part 110 continues to read as follows:

Authority: Atomic Energy Act of 1954, secs. 11, 51, 53, 54, 57, 62, 63, 64, 65, 81, 82, 103, 104, 109, 111, 121, 122, 123, 124, 126, 127, 128, 129, 133, 134, 161, 170h, 181, 182, 183, 184, 186, 187, 189, 223, 234 (42 U.S.C. 2014, 20710, 2073, 2074, 2077, 2092, 2093, 2094, 2095, 2111, 2112, 2133, 2134, 2139, 2141, 2151, 2152, 2153, 2154, 2155, 2156, 2157, 2158, 2160C, 2160D, 2201, 2210H, 2231, 2232, 2233, 2234, 2236, 2237, 2239, 2273, 2282); Energy Reorganization Act of 1974, secs. 201 (42 U.S.C. 5841); Administrative Procedure Act (5 U.S.C. 552, 553); 42 U.S.C. 2139a, 2155a; 44 U.S.C. 3504 note.

Section 110.1(b) also issued under 22 U.S.C. 2403; 22 U.S.C. 2778a; 50 App. U.S.C. 2401 et seq.

§ 110.2 [Amended]

17. In § 110.2 in the definition for NRC Public Document Room, remove the phrase “8:30 a.m. and 4:15 p.m.” and add in its place the phrase “8:00 a.m. and 4:00 p.m.”.

§ 110.4 [Amended]

18. In § 110.4, remove the phone number “(301) 415-2344” and add in its place the phone number “301-287-9057”.

§ 110.6 [Amended]

19. In § 110.6(b), remove the phrase “Office of International Regimes and Agreements” and add in its place the phrase “Office of Nonproliferation and Arms Control”.

Dated at Rockville, Maryland, this 14th day of November, 2018.
For the Nuclear Regulatory Commission.
Pamela J. Shepherd-Vladimir,
Acting Chief, Regulatory Analysis and Rulemaking Support Branch, Office of Nuclear Material Safety and Safeguards.

[FR Doc. 2018-25181 Filed 11-19-18; 8:45 am]

BILLING CODE 7590-01-P